DEPARTMENT OF COMMERCE

International Trade Administration

[A-570-117]

Wood Mouldings and Millwork Products From the People's Republic of China: Preliminary Results Intent To Rescind, in Part, and Rescission in Part, of Antidumping Duty Administrative Review; 2022-2023

AGENCY: Enforcement and Compliance, International Trade Administration, Department of Commerce.

SUMMARY: The U.S. Department of Commerce (Commerce) preliminarily determines that Fujian Jinquan Trade Co., Ltd./Baiyuan Wood Machining Co., Ltd. (Jinquan/Baiyuan) and 22 non-individually examined and separate-rate eligible exporters of wood mouldings and millwork products (millwork products) from the People's Republic of China (China) sold subject merchandise to the United States at prices below normal value (NV) during the period of review (POR), February 1, 2022, through January 31, 2023. Commerce also preliminarily determines that Fujian Yinfeng Imp & Exp Trading Co., Ltd./Fujian Province Youxi City Mangrove Wood Machining Co., Ltd. (Yinfeng/Mangrove) did not sell subject merchandise to the United States at prices below NV during the POR. We intend to rescind this review with respect to 12 companies for which the U.S. Customs and Border Protection (CBP) data show no entries of the subject merchandise from these companies during the POR. Additionally, we are rescinding this administrative review with respect to seven companies because the requests for review for these companies were timely withdrawn. Finally, we preliminarily find that four companies are part of the China-wide entity. We invited interested parties to comment on these preliminary results.

DATES: Applicable March 8, 2024.

FOR FURTHER INFORMATION CONTACT: Brian Smith or Robert Palmer, AD/CVD Operations, Office VIII, Enforcement and Compliance, International Trade Administration, Department of Commerce, 1401 Constitution Avenue NW, Washington, DC 20230; telephone: (202) 482-1766 and (202) 482-9068, respectively.

SUPPLEMENTARY INFORMATION:

Background

This administrative review is being conducted in accordance with section 751(a) of the Tariff Act of 1930, as amended (the Act). The review covers 47 companies, including mandatory respondents, Jinquan/Baiyuan and Yinfeng/Mangrove.¹ For a complete description of the events that followed the initiation of this administrative review, see the Preliminary Decision Memorandum. A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ We have determined that it is appropriate to continue to treat affiliates Yinfeng and Mangrove as a single entity, and affiliates Jinquan and Baiyuan, as a single entity for purposes of this administrative review, consistent with past segments of this proceeding. For further discussion, see Memorandum, “Decision Memorandum for the Preliminary Results of Antidumping Duty Administrative Review; 2022-2023: Wood Mouldings and Millwork Products from the People's Republic of China,” dated concurrently with, and hereby adopted by, this notice (Preliminary Decision Memorandum).

Scope of the Order ²

² See Wood Mouldings and Millwork Products from the People's Republic of China: Amended Final Antidumping Duty Determination and Antidumping Duty Order, 86 FR 9486 (February 16, 2021) (Order).

The merchandise covered by the Order is wood mouldings and millwork products from China. For a complete description of the scope of the Order, see the Preliminary Decision Memorandum.

Methodology

Commerce is conducting this review in accordance with section 751(a)(1)(B) of the Act and 19 CFR 351.213. We calculated export prices in accordance with section 772 of the Act. Because China is a non-market economy (NME) country within the meaning of section 771(18) of the Act, NV has been calculated in accordance with section 773(c) of the Act. For a full description of the methodology underlying our preliminary conclusions, see the Preliminary Decision Memorandum.

Intent To Rescind Administrative Review, in Part

Pursuant to 19 CFR 351.213(d)(3), it is Commerce's practice to rescind an administrative review of an antidumping duty order where it determines that there were no suspended entries of subject merchandise during the POR.³ Normally, upon completion of an administrative review, the suspended entries are liquidated at the antidumping duty assessment rate for the review period.⁴ Therefore, for an administrative review to be conducted, there must be a reviewable, suspended entry that Commerce can instruct CBP to liquidate at the calculated antidumping duty assessment rate for the review period.⁵

³ See, e.g., Certain Carbon and Alloy Steel Cut-to Length Plate from the Federal Republic of Germany: Recission of Antidumping Administrative Review; 2020-2021, 88 FR 4157 (January 24, 2023).

⁴ See 19 CFR 351.212(b)(1).

⁵ See, e.g., Shanghai Sunbeauty Trading Co. v. United States, 380 F. Supp. 3d 1328, 1335-36 (CIT 2019), at 12 (referring to section 751(a) of the Act, the U.S. Court of International Trade held that: “While the statute does not explicitly require that an entry be suspended as a prerequisite for establishing entitlement to a review, it does explicitly state the determined rate will be used as the liquidation rate for the reviewed entries. This result can only obtain if the liquidation of entries has been suspended . . .;” see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

On May 31, 2023, Commerce placed CBP entry data on the record for U.S. imports of the subject merchandise during the POR for respondent selection purposes.⁶ Twelve companies under review have existing separate rates but no suspended entries during the POR.⁷ In the absence of any reviewable, suspended entries of subject merchandise from these companies during the POR, Commerce hereby notifies all interested parties of its intent to rescind this administrative review with respect to these companies. Commerce is providing interested parties with an opportunity to submit comments on this preliminary decision, including factual information. Comments, including factual information, from interested parties are due to Commerce no later than seven days after the publication of these preliminary results. Rebuttal comments, including rebuttal factual information, are due seven days thereafter. All submissions must be filed electronically at http://access.trade.gov in accordance with 19 CFR 351.303.

⁶ See Memorandum, “Release of U.S. Customs and Border Protection Data,” dated May 31, 2023.

⁷ See Appendix IV for a list of these companies.

Rescission of Administrative Review, in Part

Pursuant to 19 CFR 351.213(d)(1), Commerce will rescind an administrative review, in whole or in part, if a party who requested the review withdraws the request within 90 days of the date of publication of the notice of initiation of the requested review. On May 8, 2023, Xuzhou Goodwill Resource Co., Ltd. (Xuzhou Goodwill) and Sanming Lintong Trading Co., Ltd. (Sanming Lintong) each timely withdrew its request for review of itself.⁸ On July 7, 2023, Jeld-Wen, Inc. (Jeld-Wen), a U.S. importer of the subject merchandise, timely withdrew its request for review of Zhejiang Senya Board Industry Co., Ltd. (Zhejiang Senya).⁹ Finally, on July 10, 2023, the petitioner timely withdrew its requests for review of four companies (i.e., Fujian Shunchang Shengsheng Wood Industry Limited Company (Shunchang Shengsheng), TL Wood Products, Inc. (TL Wood), Xiamen Jinxi Building Material Co., Ltd. (Xiamen Jinxi), and Zhangzhou Green Wood Industry and Trade Co., Ltd. (Zhangzhou Green Wood),¹⁰ one of which, Shunchang Shengsheng, also withdrew its review request on July 10, 2023.¹¹ Because no other parties requested a review of the above seven companies, Commerce is rescinding the administrative review with respect to these companies.

⁸ See Sanming Lintong's Letter, “Withdrawal of Request for Review,” dated May 8, 2023; see also Xuzhou Goodwill's Letter, “Withdrawal of Request for Review,” dated May 8, 2023.

⁹ See Jeld-Wen's Letter, “Withdrawal of Request for Administrative Review,” dated July 7,2023; see also Jeld-Wen's Letter, “Request of administrative Review,” dated February 28, 2023.

¹⁰ See Petitioner's Letter, “Partial Withdrawal of Request for Administrative Review,” dated July 10, 2023.

¹¹ See Shunchang Shengcheng's Letter, “Withdraw of Request for Administrative Review,” dated July 10, 2023.

Separate Rates

Commerce preliminarily finds that, in addition to Yinfeng/Mangrove and Jinquan/Baiyuan, the information placed on the record by 22 companies not individually examined in this review demonstrates that these companies are eligible for a separate rate.¹²

¹² See Appendix II for a list of these companies.

The statute and Commerce's regulations do not address what dumping margin to apply to respondents not selected for individual examination when Commerce limits its examination in an administrative review pursuant to section 777A(c)(2) of the Act. Generally, Commerce looks to section 735(c)(5) of the Act, which provides instructions for calculating the all-others rate in an investigation, for guidance when calculating the dumping margin for respondents that are not selected for individual examination in an administrative review. Section 735(c)(5)(A) of the Act states that the all-others rate should be calculated by averaging the weighted-average dumping margins calculated for individually-examined respondents, excluding dumping margins that are zero, de minimis, or based entirely on facts available. Because we calculated a preliminary dumping margin of zero for Yinfeng/Mangrove, and a preliminary dumping margin that is not zero, de minimis, or based entirely on facts available for Jinquan/Baiyuan, we assigned the separate-rate recipients a preliminary dumping margin equal to Jinquan/Baiyuan's preliminary dumping margin consistent with Commerce's practice and section 735(c)(5)(A) of the Act.

The China-Wide Entity

Commerce's policy regarding conditional review of the China-wide entity applies to this administrative review.¹³ Under this policy, the China-wide entity will not be under review unless a party specifically requests and Commerce initiates, or Commerce self-initiates, a review of the China-wide entity.¹⁴ Because no party requested a review of the China-wide entity and no review was initiated for this POR, the China-wide entity is not under review and the China-wide entity's rate (i.e., 220.87 percent) is not subject to change.¹⁵ Commerce preliminarily finds that four companies ¹⁶ did not establish their eligibility for a separate rate because they failed to provide a separate rate application or a separate rate certification. As such, we preliminarily determine that these companies are part of the China-wide entity.

¹³ See Antidumping Proceedings: Announcement of Change in Department Practice for Respondent Selection in Antidumping Proceedings and Conditional Review of the Nonmarket Economy Entity in NME Antidumping Duty Proceedings, 78 FR 65963 (November 4, 2013).

¹⁴ Id.

¹⁵ See Order, 86 FR at 9488.

¹⁶ These companies are: (1) Aventra, Inc. (Aventra); (2) China Cornici, Co. Ltd. (China Cornici); (3) Gaomi Hongtai Home Furniture Co., Ltd. (Gaomi Hongtai); and (4) and Shuyang Zhongding Decoration Materials Co., Ltd. (Shuyang Zhongding).

Preliminary Results of Review

Commerce preliminarily determines that the following estimated weighted-average dumping margins exist for the POR:

¹⁷ See Appendix II.

Exporter | Weighted-average dumping margin (percent)
Fujian Jinquan Trade Co., Ltd./Baiyuan Wood Machining Co., Ltd | 4.72
Fuijian Yinfeng Imp & Exp Trading Co., Ltd./Fujian Province Youxi City Mangrove Wood Machining Co., Ltd | 0.00
Non-Selected Companies Under Review Receiving a Separate Rate¹⁷ | 4.72

Disclosure and Public Comment

Commerce intends to disclose its calculations and analysis performed to interested parties for these preliminary results within five days of any public announcement or, if there is no public announcement, within five days of the date of publication of this notice in accordance with 19 CFR 351.224(b).

Pursuant to 19 CFR 351.309(c), interested parties may submit case briefs to Commerce no later than 30 days after the date of publication of this notice. Rebuttal briefs, limited to issues raised in the case briefs, may be filed not later than five days after the date for filing case briefs.¹⁸ Interested parties who submit case briefs or rebuttal briefs in this proceeding must submit: (1) a table of contents listing each issue; and (2) a table of authorities.¹⁹

¹⁸ See 19 CFR 351.309(d); see also Administrative Protective Order, Service, and Other Procedures in Antidumping and Countervailing Duty Proceedings, 88 FR 67069, 67077 (September 29, 2023) (APO and Service Final Rule).

¹⁹ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Final Rule.

Pursuant to 19 CFR 351.310(c), interested parties who wish to request a hearing must submit a written request to the Assistant Secretary for Enforcement and Compliance, filed electronically via Enforcement and Compliance's Antidumping and CVD Centralized Electronic Service System (ACCESS). Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Commerce intends to issue the final results of this administrative review, which will include the results of its analysis of issues raised in any briefs, within 120 days of the date of publication of these preliminary results, pursuant to section 751(a)(3)(A) of the Act and 19 CFR 351.213(h), unless this deadline is extended.

Assessment Rates

In accordance with section 751(a)(2)(C) of the Act, the final results of this review shall be the basis for the assessment of antidumping duties on entries of merchandise covered by this review. Upon issuance of the final results, Commerce will determine, and CBP shall assess, antidumping duties on all appropriate entries covered by this review.²²

²² See 19 CFR 351.212(b)(1).

For the companies for which we are not rescinding this administrative review, Commerce intends to issue assessment instructions to CBP no earlier than 35 days after the date of publication of the final results of this review. If a timely summons is filed at the U.S. Court of International Trade, the assessment instructions will direct CBP not to liquidate relevant entries until the time for parties to file a request for a statutory injunction has expired (i.e., within 90 days of publication).

If a mandatory respondent's ad valorem weighted-average dumping margin is not zero or de minimis (i.e., less than 0.50 percent) in the final results of this review, Commerce will calculate importer-specific assessment rates for that respondent, in accordance with 19 CFR 351.212(b)(1).²³

²³ In these preliminary results, Commerce applied the assessment rate calculation method adopted in Antidumping Proceedings: Calculation of the Weighted-Average Dumping Margin and Assessment Rate in Certain Antidumping Proceedings: Final Modification, 77 FR 8101 (February 14, 2012).

For sales for which the respondents reported entered value, Commerce intends to calculate importer-specific ad valorem assessment rates based on the ratio of the total amount of dumping calculated for each importer's examined sales to the total entered value of those sales, in accordance with 19 CFR 351.212(b)(1). For sales for which the respondents did not report entered value, we will calculate importer-specific per-unit duty assessment rates based on the ratio of the total amount of antidumping duties calculated for the examined sales to the total quantity of those sales. To determine whether an importer-specific, per-unit assessment rate is de minimis, in accordance with 19 CFR 351.106(c)(2), we also will calculate an importer-specific ad valorem ratio based on estimated entered values.

If, in the final results, a mandatory respondent's weighted-average dumping margin is zero or de minimis (i.e., less than 0.5 percent), Commerce will instruct CBP to liquidate the appropriate entries for that respondent without regard to antidumping duties.²⁴ For entries that were not reported in the U.S. sales databases submitted by each mandatory respondent during this review, and for the companies that do not qualify for a separate rate, Commerce will instruct CBP to liquidate such entries at the China-wide rate (i.e., 220.87 percent).²⁵ For the respondents that were not selected for individual examination in this administrative review but qualified for a separate rate, the assessment rate will be equal to the weighted-average dumping margin determined in the final results of this review.

²⁴ See 19 CFR 351.106(c)(2).

²⁵ See Order.

For the companies for which we are rescinding this review based on the timely withdrawal of all review requests, we intend to instruct CBP to assess antidumping duties on all appropriate entries at a rate equal to the cash deposit rate of estimated antidumping duties required at the time of entry, or withdrawal from warehouse, for consumption in accordance with 19 CFR 351.212(c)(1)(i). Commerce intends to issue assessment instructions to CBP for the rescinded companies no earlier than 35 days after the date of publication of this notice in the Federal Register.

For the companies for which we intend to rescind the review in the final results based on no reviewable entries, provided we receive no contrary information, we intend to instruct CBP to assess antidumping duties on all appropriate entries at a rate equal to the cash deposit rate of estimated antidumping duties required at the time of entry, or withdrawal from warehouse, for consumption in accordance with 19 CFR 351.212(c)(1)(i). Commerce intends to issue assessment instructions to CBP for these companies no earlier than 35 days after the date of publication of the final results in the Federal Register.

Cash Deposit Requirements

The following cash deposit requirements will be effective upon publication of the final results of this administrative review for shipments of the subject merchandise from China entered, or withdrawn from warehouse, for consumption on or after the publication date, as provided by section 751(a)(2)(C) of the Act: (1) for companies listed above that have established their eligibility for a separate rate, the cash deposit rate will be equal to the weighted-average dumping margin established in the final results of this review (except, if the rate is de minimis, then the cash deposit rate will be zero); (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 220.87 percent); and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

This administrative review and notice are issued and published in accordance with sections 751(a)(1) and 777(i)(1) of the Act, 19 CFR 351.213(d)(4), and 19 CFR 351.221(b)(4).

Dated: February 28, 2024.
Ryan Majerus
Deputy Assistant Secretary for Policy and Negotiations, performing the non-exclusive functions and duties of the Assistant Secretary for Enforcement and Compliance.

Appendix I

List of Topics Discussed in the Preliminary Decision Memorandum

I. Summary

II. Background

III. Scope of the Order

IV. Rescission of Review, in Part

V. Intent to Rescind Review, in Part

VI. Discussion of the Methodology

VII. Recommendation

Appendix II

Non-Selected Companies Under Review Receiving a Separate Rate

1. Anji Huaxin Bamboo & Wood Products Co., Ltd.

2. Composite Technology International, Limited

3. Fujian Hongjia Craft Products Co., Ltd.

4. Fujian Sanming City Donglai Wood Co., Ltd.

5. Fujian Wangbin Decorative Material Co., Ltd.

6. Fujian Youxi Best Arts & Crafts Co. Ltd.

7. Huaan Longda Wood Industry Co., Ltd.

8. Jiangsu Wenfeng Wood Co., Ltd.

9. Longquan Jiefeng Trade Co., Ltd.

10. Nanping Huatai Wood & Bamboo Co., Ltd.

11. Nicer Window Fashions Co., Ltd.

12. Putian Yihong Wood Industry Co., Ltd.

13. Qimen Jianxing Bamboo and Wood Goods Co., Ltd.

14. Rui Xing Wooden Products Co., Ltd.

15. Shandong Miting Household Co., Ltd.

16. Shaxian Hengtong Wood Industry Co., Ltd.

17. Shaxian Shiyiwood, Ltd.

18. Shuyang Kevin International Co., Ltd.

19. Sun Valley Shade Co., Ltd.

20. Suqian Sulu Import & Export Trading Co., Ltd.

21. Zhangzhou Wangjiamei Industry & Trade Co., Ltd.

22. Zhangzhou Yihong Industrial Co., Ltd.

Appendix III

Companies for Which the Review Is Rescinded

1. Fujian Shunchang Shengsheng Wood Industry Limited Company

2. Sanming Lintong Trading Co., Ltd.

3. TL Wood Products, Inc.

4. Xiamen Jinxi Building Material Co., Ltd.

5. Xuzhou Goodwill Resource Co., Ltd.

6. Zhangzhou Green Wood Industry and Trade Co., Ltd.

7. Zhejiang Senya Board Industry Co., Ltd.

Appendix IV

Companies Which Have No Reviewable Entries

1. Jiangsu Chen Sheng Forestry Development Co., Ltd.

2. Omni One Co., Ltd.

3. Raoping HongRong Handicrafts Co., Ltd.

4. Baixing Import and Export Trading Co., Ltd Youxi Fujian

5. Bel Trade Wood Industrial Co., Ltd. Youxi Fujian

6. Fotiou Frames Limited

7. Fujian Zhangping Kimura Forestry Products Co., Ltd.

8. Homebuild Industries Co., Ltd.

9. Jim Fine Wooden Products Co., Ltd.

10. Shenzhen Xinjintai Industrial Co., Ltd.

11. Tim Feng Manufacturing Co., Ltd.

12. Wuxi Boda Bamboo & Wood Industrial Co., Ltd.

[FR Doc. 2024-04980 Filed 3-7-24; 8:45 am]

BILLING CODE 3510-DS-P